DEPARTMENT OF TRANSPORTATION

Federal Aviation Administration

14 CFR Part 39

[Docket No. FAA-2024-0462; Project Identifier MCAI-2022-00523-R; Amendment 39-22826; AD 2024-17-01]

RIN 2120-AA64

Airworthiness Directives; Airbus Helicopters Deutschland GmbH (AHD) Helicopters

AGENCY: Federal Aviation Administration (FAA), DOT.

ACTION: Final rule.

SUMMARY: The FAA is superseding Airworthiness Directive (AD) 2021-11-17 and AD 2021-11-22, which applied to all Airbus Helicopters Deutschland GmbH (AHD) Model EC135P1, EC135P2, EC135P2+, EC135P3, EC135T1, EC135T2, EC135T2+, EC135T3 and EC635T2 helicopters. AD 2021-11-17 required a one-time visual inspection of certain part-numbered main rotor actuators (MRAs). AD 2021-11-22 required revising the life limits of certain parts and removing each part that had reached its life limit. Since the FAA issued those ADs, it was determined that repetitive inspections of the MRAs are necessary, new and more restrictive tasks and limitations have been issued, and that it is necessary to expand the applicability. This AD continues to require the actions required by AD 2021-11-17 and AD 2021-11-22, except this AD requires changing the one-time MRA inspection to a repetitive inspection and incorporating other new and more restrictive tasks and limitations by revising the airworthiness limitations section (ALS) of the existing helicopter maintenance manual or instructions for continued airworthiness and the existing approved maintenance or inspection program, as applicable. This AD also expands the applicability by adding Model EC635T2+ helicopters. These actions are specified in a European Union Aviation Safety Agency (EASA) AD, which is incorporated by reference. The FAA is issuing this AD to address the unsafe condition on these products.

DATES: This AD is effective November 4, 2024.

The Director of the Federal Register approved the incorporation by reference of a certain publication listed in this AD as November 4, 2024.

ADDRESSES:

AD Docket: You may examine the AD docket at regulations.gov under Docket No. FAA-2024-0462; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222 5110. It is also available in the AD docket at regulations.gov under Docket No. FAA 2024-0462.

FOR FURTHER INFORMATION CONTACT: Joe Salameh, Aviation Safety Engineer, FAA, 1600 Stewart Avenue, Suite 410, Westbury, NY 11590; phone: (206) 231-3536; email: joe.salameh@faa.gov.

SUPPLEMENTARY INFORMATION:

Background

The FAA issued a notice of proposed rulemaking (NPRM) to amend 14 CFR part 39 to supersede AD 2021-11-17, Amendment 39-21579 (86 FR 31087, June 11, 2021) (AD 2021-11-17), and AD 2021-11-22, Amendment 39-21584 (86 FR 31101, June 11, 2021) (AD 2021-11-22). AD 2021-11-17 and AD 2021-11-22 applied to all Airbus Helicopters Deutschland GmbH (AHD) Model EC135P1, EC135P2, EC135P2+, EC135P3, EC135T1, EC135T2, EC135T2+, and EC135T3 helicopters. AD 2021-11-17 required a one-time visual inspection of the MRA, and AD 2021-11-22 required revising the life limit of certain parts and removing from service each part that had reached its life limit. The FAA issued AD 2021-11-17 to prevent failure of the MRA and subsequent loss of the control of the helicopter. The FAA issued AD 2021-11-22 to prevent certain parts from remaining in service beyond their fatigue life, resulting in failure of the part and subsequent loss of control of the helicopter.

The NPRM published in the Federal Register on March 11, 2024 (89 FR 17348). The NPRM was prompted by EASA AD 2022-0067, dated April 13, 2022 (EASA AD 2022-0067) (referred to after this as the MCAI), issued by EASA, which is the Technical Agent for the Member States of the European Union. The MCAI states that repetitive inspections of MRA are necessary.

You may examine the MCAI in the AD docket at regulations.gov under Docket No. FAA-2024-0462.

In the NPRM, the FAA proposed to continue to require the actions required by AD 2021-11-17 and AD 2021-11-22, except the NPRM proposed to require changing the one-time MRA inspection to a repetitive inspection and incorporating other new and more restrictive tasks and limitations by revising the ALS of the existing helicopter maintenance manual or instructions for continued airworthiness and the existing approved maintenance or inspection program, as applicable. The NPRM also proposed to expand the applicability by adding Model EC635T2+ helicopters.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. Except for minor editorial changes, this AD is adopted as proposed in the NPRM.

Material Incorporated by Reference Under 1 CFR Part 51

EASA AD 2022-0067 requires replacing components before exceeding their life limits and accomplishing maintenance tasks within thresholds and intervals specified in the applicable ALS as defined in EASA AD 2022-0067. Depending on the results of the maintenance tasks, EASA AD 2022-0067 requires accomplishing corrective action(s) or contacting AHD [Airbus Helicopters Deutschland GmbH AHD] for approved instructions and accomplishing those instructions. EASA AD 2022-0067 also requires revising the Aircraft Maintenance Programme (AMP) by incorporating the limitations, tasks, and associated thresholds and intervals described in the specified ALS as applicable to helicopter model and configuration. Revising the AMP constitutes terminating action for the requirements to replace components before exceeding their life limits and accomplish maintenance tasks within thresholds and intervals specified in the applicable ALS as required by EASA AD 2022-0067.

This material is reasonably available because the interested parties have access to it through their normal course of business or by the means identified in the ADDRESSES section.

Other Related Material

The FAA also reviewed Airbus Chapter 04 ALS for EC135 P1, P2, P3, T1, T2, T3, limited to CDS, CPDS, P2+, T2+ helicopters, Revision 2, dated April 6, 2021, and Airbus Chapter 04 ALS for EC135 P3H and T3H helicopters, Revision 2, dated April 6, 2021. This material specifies airworthiness limitations, tasks, and associated thresholds and intervals for various parts. Revision 2 of this material specifies various updates for certain components.

Differences Between This AD and the EASA AD

EASA AD 2022-0067 applies to Model EC635 P2+, EC635 P3, EC635 T1, and EC635 T3 helicopters, whereas this AD does not because these model helicopters are not FAA type-certificated.

EASA AD 2022-0067 requires replacing certain components before exceeding applicable life limits, accomplishing certain maintenance tasks within thresholds and intervals as specified in the ALS, as defined within, and depending on the results, accomplishing corrective action within the compliance time specified in that ALS. EASA AD 2022-0067 also requires revising the approved AMP to incorporate the limitations, tasks, and associated thresholds and intervals described in that ALS within 12 months after its effective date. Whereas, this AD requires revising existing documents and programs within 30 days to incorporate the limitations, tasks, and associated thresholds and intervals described in that ALS, and clarifies that if the initial instance of an incorporated limitation or threshold therein is reached before 30 days after the effective date of this AD, you still have up to 30 days after the effective date of this AD to accomplish the corresponding task.

Costs of Compliance

The FAA estimates that this AD affects 272 helicopters of U.S. Registry. Labor rates are estimated at $85 per work-hour. Based on these numbers, the FAA estimates the following costs to comply with this AD.

Revising the ALS of the existing helicopter maintenance manual or instructions for continued airworthiness for your helicopter and the existing approved maintenance or inspection program for your helicopter, as applicable, takes approximately 2 work-hours, for an estimated cost of $170 per helicopter and $46,240 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directives (AD) 2021-11-17, Amendment 39-21579 (86 FR 31087, June 11, 2021); and AD 2021-11-22, Amendment 39-21584 (86 FR 31101, June 11, 2021); and

b. Adding the following new AD:

2024-17-01 Airbus Helicopters Deutschland GmbH (AHD): Amendment 39-22826; Docket No. FAA-2024-0462; Project Identifier MCAI-2022-00523-R.

(a) Effective Date

This airworthiness directive (AD) is effective November 4, 2024.

(b) Affected ADs

This AD replaces AD 2021-11-17, Amendment 39-21579 (86 FR 31087, June 11, 2021), and AD 2021-11-22, Amendment 39-21584 (86 FR 31101, June 11, 2021).

Note 1 to paragraph (b): The requirements of this AD capture the latest tasks and life limits required to prevent the unsafe conditions addressed by the ADs that are identified in paragraph (b) of this AD.

(c) Applicability

This AD applies to Airbus Helicopters Deutschland GmbH (AHD) Model EC135P1, EC135P2, EC135P2+, EC135P3, EC135T1, EC135T2, EC135T2+, EC135T3, and EC635T2+ helicopters, certificated in any category.

Note 2 to paragraph (c): Helicopters with an EC135P3H designation are Model EC135P3 helicopters, and helicopters with an EC135T3H designation are Model EC135T3 helicopters.

(d) Subject

Joint Aircraft Service Component (JASC) Code: 6310, Main Rotor Control.

(e) Unsafe Condition

This AD was prompted by new and more restrictive airworthiness limitations. The FAA is issuing this AD to prevent failure of certain parts, which if not addressed, could result in subsequent loss of control of the helicopter.

(f) Compliance

Comply with this AD within the compliance times specified, unless already done.

(g) Required Action

Except as specified in paragraphs (h) and (i) of this AD: Comply with all required actions and compliance times specified in, and in accordance with, European Union Aviation Safety Agency (EASA) AD 2022-0067, dated April 13, 2022 (EASA AD 2022-0067).

(h) Exceptions to EASA AD 2022-0067

(1) Where EASA AD 2022-0067 refers to its effective date, this AD requires using the effective date of this AD.

(2) This AD does not adopt the requirements specified in paragraphs (1), (2), (4), and (5) of EASA AD 2022-0067.

(3) Where paragraph (3) of EASA AD 2022-0067 specifies “Within 12 months after the effective date of this AD, revise the approved AMP;” for this AD, replace that text with “Within 30 days after the effective date of this AD, revise the airworthiness limitations section of your existing helicopter maintenance manual or instructions for continued airworthiness and your existing approved maintenance or inspection program, as applicable.”

(4) The initial compliance time for doing the tasks specified in paragraph (3) of EASA AD 2022-0067 is on or before the applicable “limitations” and “associated thresholds” as incorporated by the requirements of paragraph (3) of EASA AD 2022-0067, or within 30 days after the effective date of this AD, whichever occurs later.

(5) This AD does not adopt the “Remarks” section of EASA AD 2022-0067.

(i) Provisions for Alternative Actions and Intervals

No alternative actions and associated thresholds and intervals, including life limits, are allowed for compliance with paragraph (g) of this AD unless they are approved as specified in the provisions of the “Ref. Publications” section of EASA AD 2022-0067.

(j) Special Flight Permits

Special flight permits may be issued in accordance with 14 CFR 21.197 and 21.199, provided no passengers are onboard.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD. Information may be emailed to: 9-AVS-AIR-730-AMOC@faa.gov.

(2) Before using any approved AMOC, notify your appropriate principal inspector, or lacking a principal inspector, the manager of the local flight standards district office/certificate holding district office.

(l) Related Information

For more information about this AD, contact Joe Salameh, Aviation Safety Engineer, FAA, 1600 Stewart Avenue, Suite 410, Westbury, NY 11590; phone: (206) 231-3536; email: joe.salameh@faa.gov.

(m) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2022-0067, dated April 13, 2022.

(ii) [Reserved]

(3) For EASA material identified in this AD, contact EASA, Konrad-Adenauer-Ufer 3, 50668 Cologne, Germany; phone: +49 221 8999 000; email: ADs@easa.europa.eu; website: easa.europa.eu. You may find this EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on September 18, 2024.
Victor Wicklund,
Deputy Director, Compliance & Airworthiness Division, Aircraft Certification Service.

[FR Doc. 2024-22349 Filed 9-27-24; 8:45 am]

BILLING CODE 4910-13-P